DEPARTMENT OF THE INTERIOR

National Park Service

[NPS-WASO-NAGPRA-NPS0037841; PPWOCRADN0-PCU00RP14.R50000]

Notice of Inventory Completion: San Francisco State University NAGPRA Program, San Francisco, CA

AGENCY: National Park Service, Interior.

ACTION: Notice.

SUMMARY: In accordance with the Native American Graves Protection and Repatriation Act (NAGPRA), the San Francisco State University (SF State) NAGPRA Program has completed an inventory of human remains and associated funerary objects and has determined that there is a cultural affiliation between the human remains and associated funerary objects and Indian Tribes or Native Hawaiian organizations in this notice.

DATES: Repatriation of the human remains and associated funerary objects in this notice may occur on or after May 31, 2024.

ADDRESSES: Elise Green, San Francisco State University NAGPRA Program, 1600 Holloway Avenue, San Francisco, CA 94132, telephone (415) 405-3545, email egreen@sfsu.edu.

SUPPLEMENTARY INFORMATION: This notice is published as part of the National Park Service's administrative responsibilities under NAGPRA. The determinations in this notice are the sole responsibility of the SF State NAGPRA Program and additional information on the determinations in this notice, including the results of consultation, can be found in the inventory or related records. The National Park Service is not responsible for the determinations in this notice.

Abstract of Information Available

Based on the information available, human remains representing, at least, one individual has been reasonably identified. The 92 associated funerary objects are Olivella beads, abalone pendants, obsidian points, basalt cores, flakes, polished bones, pestles, mortars, and stone tools. All sites: CA-TEH-23; CA-TEH-22, the Thomes Creek Site; and CA-TEH-233, the Lindauer Site, were excavated in the summer of 1963 by Adan E. Treganza as part of the Tehama-Colusa Canal Survey. This survey was conducted to capture baseline archaeological data about the area prior to the construction of a canal by the Bureau of Reclamation.

CA-TEH-23 is in the Tehama Quad and contained several burials which were excavated. CA-TEH-22 is in the Corning Quad, on a bluff at the confluence off the Thomes Creek and Sacramento River. According to the available site documentation, CA-TEH-22 was a large village site and contained at least two burials. CA-TEH-233 was an occupation mound and may have included a cemetery. Two burials were found and reinterred at the time of recording. Because the remains recorded at CA-TEH-233 were reburied, it is assumed that these elements represent a portion of the remains originally designated Burial 1 that were collected at CA-TEH-22. A letter from Suzanne Griest, UC Davis Museum Preparator, to Robin Wells, Treganza Anthropology Museum Curator, indicates that materials collected from CA-TEH-22 were transferred to Davis at some point prior to July 3, 1980. An additional letter from Griest to Wells suggests that the CA-TEH-22 burials had been misplaced as early as July 14, 1980. The survey abstract indicates that these sites are affiliated with the Central Wintun, whose aboriginal occupation of the surrounding areas is well-documented in the ethnographic literature.

It was once common practice by museums to use chemicals on cultural items to prevent deterioration by mold, insects, and moisture. To date, the SF State NAGPRA Program has no records documenting use of chemicals at our facilities, and we currently do not use chemicals on any cultural items. A former SF State professor, Dr. Michael Moratto, stated that staff used glues, polyvinyl acetate, and a solution called Glyptol to mend and stabilize cultural objects in the past. Prior non-invasive and non-destructive hazardous chemical tests conducted at the SF State NAGPRA Program repositories show arsenic, mercury, and/or lead in some storage containers, surfaces, and certain cultural items.

Cultural Affiliation

Based on the information available and the results of consultation, cultural affiliation is clearly identified by the information available about the human remains and associated funerary objects described in this notice.

Determinations

The SF State NAGPRA Program has determined that:

• The human remains described in this notice represent the physical remains of one individual of Native American ancestry.

• The 92 objects described in this notice are reasonably believed to have been placed intentionally with or near individual human remains at the time of death or later as part of the death rite or ceremony.

• There is a reasonable connection between the human remains and associated funerary objects described in this notice and the Grindstone Indian Rancheria of Wintun-Wailaki Indians of California and the Paskenta Band of Nomlaki Indians of California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 31, 2024. If competing requests for repatriation are received, SF State NAGPRA Program must determine the most appropriate requestor prior to repatriation. Requests for joint repatriation of the human remains and associated funerary objects are considered a single request and not competing requests. The SF State NAGPRA Program is responsible for sending a copy of this notice to the Indian Tribes and Native Hawaiian organizations identified in this notice.

Authority: Native American Graves Protection and Repatriation Act, 25 U.S.C. 3003, and the implementing regulations, 43 CFR 10.10.

Dated: April 23, 2024.
Melanie O'Brien,
Manager, National NAGPRA Program.

[FR Doc. 2024-09414 Filed 4-30-24; 8:45 am]

BILLING CODE 4312-52-P